DEPARTMENT OF HEALTH AND HUMAN SERVICES

Center for Disease Control and Prevention

Program Announcement Number 01163 Correction

AGENCY: Centers for Disease Control and Prevention, HHS

ACTION: Program announcement number 01163 correction.

SUMMARY: The Centers for Disease Control and Prevention published Program Announcement 01163 for HIV Prevention Projects for Community-Based Organizations Targeting Young Men of Color Who Have Sex With Men

FOR FURTHER INFORMATION CONTACT: David A. Wilson, 770-488-2692

Correction

In the Federal Register of June 21, 2001, in FR Vol 66, No. 120, Page 33254, first line, third column, correct date to read On or Before July 31, 2001. On Page 33255, second column, under J. Where to Obtain Additional Information, third paragraph, phone number for David A. Wilson should read: 770-488-2692.

Dated: June 22, 2001.
John L. Williams,
Director, Procurement and Grants Office, Centers for Disease Control and Prevention (CDC).

[FR Doc. 01-16247 Filed 6-27-01; 8:45 am]

BILLING CODE 4163-18-P